DEPARTMENT OF THE TREASURY

Internal Revenue Service

26 CFR Part 1

Treatment of Overall Foreign and Domestic Losses

CFR Correction

In Title 26 of the Code of Federal Regulations, Part 1 (§§ 1.851 to 1.907), revised as of April 1, 2009, on page 808, in § 1.904(f)-2, in paragraph (c)(5) Example 4, following “§ 1.904(f)-2T(c)(5)”, add “Example 4.”.

[FR Doc. 2010-6462 Filed 3-22-10; 8:45 am]

BILLING CODE 1505-01-D